NUCLEAR REGULATORY COMMISSION

[Docket No. 50-331; NRC-2018-0116]

NexEra Energy Duane Arnold, LLC; Duane Arnold Energy Center

AGENCY: Nuclear Regulatory Commission.

ACTION: License amendment application; withdrawal by applicant.

SUMMARY: The U.S. Nuclear Regulatory Commission (NRC) has granted the request of NextEra Energy Duane Arnold, LLC (NextEra) to withdraw its application dated December 15, 2017, for a proposed amendment to Duane Arnold Energy Center (DAEC), Renewed Facility Operating License No. DPR-49. The proposed change would have modified Technical Specifications (TS) 3.6.1.7, “Suppression Chamber-to-Drywell Vacuum Breakers,” by revising the required number of operable vacuum breakers for opening from six to five. Subsequently, by letter dated August 30, 2018, NextEra withdrew the amendment request.

DATES: The effective date of the withdrawal of the license amendment application is October 10, 2018.

ADDRESSES: Please refer to Docket ID NRC-2018-0116 when contacting the NRC about the availability of information regarding this document. You may obtain publicly-available information related to this document using any of the following methods:

• Federal Rulemaking website: Go to http://www.regulations.gov and search for Docket ID NRC-2018-0116. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Mahesh Chawla, Office of Nuclear Reactor Regulation, U.S. Nuclear Regulatory Commission, Washington, DC 20555-0001; telephone: 301-415-8371: email: Mahesh.Chawla@nrc.gov.

SUPPLEMENTARY INFORMATION: The NRC has granted the request of NextEra to withdraw its December 15, 2017 (ADAMS Accession No. ML17352A335), application for proposed amendment to DAEC, Renewed Facility Operating License No. DPR-49, located in Linn County, Iowa.

The proposed change would have modified Technical Specifications (TS) 3.6.1.7, “Suppression Chamber-to-Drywell Vacuum Breakers,” by revising the required number of operable vacuum breakers for opening from six to five.

The Commission had previously issued a notice of consideration of issuance of amendment published in the Federal Register on July 3, 2018 (83 FR 31194). However, by letter dated August 30, 2018, the licensee withdrew the proposed change (ADAMS Accession No. ML18242A510).

For further details with respect to this action, see the application for amendment dated December 15, 2017, and the licensee's letter dated August 30, 2018, which withdrew the application for license amendment.

Dated at Rockville, Maryland, this 3rd day of October 2018.
For the Nuclear Regulatory Commission.
Mahesh L. Chawla,
Project Manager, Plant Licensing Branch Ill, Division of Operating Reactor Licensing, Office of Nuclear Reactor Regulation.

[FR Doc. 2018-21913 Filed 10-9-18; 8:45 am]

BILLING CODE 7590-01-P